DEPARTMENT OF ENERGY

Federal Energy Regulatory Commission

[Docket No. CP05-34-000]

Natural Gas Pipeline Company of America; Notice of Application

December 8, 2004.

Take notice that on December 6, 2004, Natural Gas Pipeline Company of America (Natural), 747 East 22nd Street, Lombard, Illinois 60148, filed in the above referenced docket an application pursuant to sections 7(b) and 7(c) of the Natural Gas Act (NGA) and Subpart A of Part 157 of the Federal Energy Regulatory Commission's (Commission) Regulations for authorization: (i) To construct and operate a new 1,775 horsepower (hp) compressor unit and a new 3,550 hp compressor unit at Natural's Compressor Station No. 155 at Chico in Wise County, Texas (Station 155); (ii) to construct and operate a new 5,551 hp compressor unit at Natural's Compressor Station No. 801 at Ratliff City in Carter County, Oklahoma (Station 801); and (iii) to abandon three 660 hp compressor units and a 2,000 hp compressor unit at Station 155, all as more fully set forth in the application which is on file with the Commission and open to public inspection. The filing may also be viewed on the Web at http://www.ferc.gov using the “eLibrary” link. Enter the docket number excluding the last three digits in the docket number field to access the document. For assistance, please contact FERC Online Support at FERCOnlineSupport@ferc.gov or toll free at (866) 208-3676, or TTY, contact (202) 502-8659.

Natural states that the proposed project will provide 20,000 Dth/d of additional transportation capacity in its Segment No. 1, which starts in Wise County, Texas, with gas flowing north through Station 155 to the end point at Station 801 in Carter County, Oklahoma and 51,000 Dth/d of additional transportation capacity in its A/G Line, which runs east and south from Carter County, Oklahoma to Cass County, Texas, at a cost of approximately $20.7 million.

Any questions concerning the application should be directed to Bruce H. Newsome, Vice President, Natural Gas Pipeline Company of America, 747 East 22nd Street, Lombard, Illinois 60148-5072, or call (630) 691-3526.

There are two ways to become involved in the Commission's review of this project. First, any person wishing to obtain legal status by becoming a party to the proceedings for this project should, on or before the comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Persons who wish to comment only on the environmental review of this project, or in support of or in opposition to this project, should submit an original and two copies of their comments to the Secretary of the Commission. Environmental commenters will be placed on the Commission's environmental mailing list, will receive copies of the environmental documents, and will be notified of meetings associated with the Commission's environmental review process. Environmental commenters will not be required to serve copies of filed documents on all other parties. The Commission's rules require that persons filing comments in opposition to the project provide copies of their protests only to the applicant. However, the non-party commenters will not receive copies of all documents filed by other parties or issued by the Commission (except for the mailing of environmental documents issued by the Commission) and will not have the right to seek court review of the Commission's final order.

The Commission strongly encourages electronic filings of comments, protests, and interventions via the internet in lieu of paper. See 18 CFR 385.2001(a)(1)(iii) and the instructions on the Commission's Web site (http://www.ferc.gov) under the “e-Filing” link.

Comment Date: December 29, 2004.

Magalie R. Salas,
Secretary.

[FR Doc. E4-3670 Filed 12-14-04; 8:45 am]

BILLING CODE 6717-01-P